SOCIAL SECURITY ADMINISTRATION

20 CFR Part 404

[Docket No. SSA-2025-0033]

RIN 0960-AI95

Extension of Expiration Dates for 13 Body System Listings

AGENCY: Social Security Administration.

ACTION: Final rule.

SUMMARY: We are extending the expiration dates of the following body systems in the Listing of Impairments (listings) in our regulations: Low Birth Weight and Failure to Thrive, Musculoskeletal Disorders, Special Senses and Speech, Respiratory Disorders, Cardiovascular System, Genitourinary Disorders, Hematological Disorders, Endocrine Disorders, Congenital Disorders That Affect Multiple Body Systems, Neurological Disorders, Mental Disorders, Cancer (Malignant Neoplastic Diseases), and Immune System Disorders. We are making no other revisions to these body systems in this final rule. This extension ensures that we will continue to have the criteria we need to evaluate impairments in the affected body systems at step three of the sequential evaluation processes for initial claims and continuing disability reviews.

DATES: This final rule is effective on September 11, 2025.

FOR FURTHER INFORMATION CONTACT: Michael J. Goldstein, Director, Office of Medical Policy, Social Security Administration, 6401 Security Boulevard, Baltimore, MD 21235-6401, (410) 965-1020.

For information on eligibility or filing for benefits, call our national toll-free number, 1-800-772-1213, or TTY 1-800-325-0778, or visit our internet site, Social Security Online, at https://www.socialsecurity.gov.

SUPPLEMENTARY INFORMATION:

Background

We use the listings in appendix 1 to subpart P of part 404 of 20 CFR at the third step of the sequential evaluation process to evaluate claims filed by adults and children for benefits based on disability under the title II and title XVI programs.¹ 20 CFR 404.1520(d), 416.920(d), 416.924(d). The listings are in two parts: Part A has listings criteria for adults and Part B has listings criteria for children. If you are age 18 or over, we apply the listings criteria in Part A when we assess your impairment or combination of impairments. If you are under age 18, we first use the criteria in Part B of the listings when we assess your impairment(s). If the criteria in Part B do not apply, we may use the criteria in Part A when those criteria consider the effects of your impairment(s). 20 CFR 404.1525(b), 416.925(b).

¹ We also use the listings in the sequential evaluation processes we use to determine whether a beneficiary's disability continues. See 20 CFR 404.1594, 416.994, and 416.994a.

Explanation of Changes

In this final rule, we are extending the dates on which the listings for the following 13 body systems will no longer be effective as set out in the following chart:

Body system listings | Current expiration date | New expiration date
Low Birth Weight and Failure to Thrive 100.00 | August 14, 2026 | August 15, 2031.
Musculoskeletal Disorders 1.00 and 101.00 | April 2, 2026 | April 4, 2031.
Special Senses and Speech 2.00 and 102.00 | June 5, 2026 | June 6, 2031.
Respiratory Disorders 3.00 and 103.00 | December 12, 2025 | December 13, 2030.
Cardiovascular System 4.00 and 104.00 | February 6, 2026 | February 7, 2031.
Genitourinary Disorders 6.00 and 106.00 | December 12, 2025 | December 13, 2030.
Hematological Disorders 7.00 and 107.00 | June 5, 2026 | June 6, 2031.
Endocrine Disorders 9.00 and 109.00 | August 14, 2026 | August 15, 2031.
Congenital Disorders That Affect Multiple Body Systems 10.00 and 110.00 | June 5, 2026 | June 6, 2031.
Neurological Disorders 11.00 and 111.00 | September 29, 2025 | September 27, 2030.
Mental Disorders 12.00 and 112.00 | December 12, 2025 | December 13, 2030.
Cancer (Malignant Neoplastic Diseases) 13.00 and 113.00 | August 14, 2026 | August 15, 2031.
Immune System Disorders 14.00 and 114.00 | February 6, 2026 | February 7, 2031.

We continue to revise and update the listings on a regular basis, including those body systems not affected by this final rule.² We intend to update the 13 listings affected by this final rule as necessary based on medical advances as quickly as possible, but may not be able to publish final rules revising these listings by the current expiration date. Therefore, we are extending the expiration dates listed above.

² We established the current expiration date of the Musculoskeletal Disorders body system on Dec. 3, 2020. 85 FR 78164. We last extended the expiration date of the Neurological Disorders body system on Aug. 2, 2021. 86 FR 41382. We last extended the expiration dates of the body systems for Respiratory Disorders, Genitourinary Disorders, and Mental Disorders on Nov. 17, 2021. 86 FR 64068. We last extended the expiration dates of the body systems for the Cardiovascular System and Immune System Disorders on Dec. 13, 2021. 86 FR 70728. We last extended the expiration dates of the body systems for Low Birth Weight and Failure to Thrive, Endocrine Disorders, and Cancer (Malignant Neoplastic Diseases) on July 18, 2022. 87 FR 42642. We last extended the expiration dates of the body systems for Special Senses and Speech, Hematological Disorders, and Congenital Disorders That Affect Multiple Body Systems on May 4, 2022. 87 FR 26268.

Regulatory Procedures

Justification for Final Rule

We follow the Administrative Procedure Act (APA) rulemaking procedures specified in 5 U.S.C. 553 in promulgating regulations. Section 702(a)(5) of the Social Security Act, 42 U.S.C. 902(a)(5). Generally, the APA requires that an agency provide prior notice and opportunity for public comment before issuing a final regulation. The APA provides exceptions to the notice-and-comment requirements when an agency finds there is good cause for dispensing with such procedures because they are impracticable, unnecessary, or contrary to the public interest.

We determined that good cause exists for dispensing with the notice and public comment procedures. 5 U.S.C. 553(b)(B). This final rule only extends the date on which the 13 body system listings will no longer be effective. It makes no substantive changes to our rules. Our current regulations ³ provide that we may extend, revise, or promulgate the body system listings again. Therefore, we determined that opportunity for prior comment is unnecessary, and we are issuing this regulation as a final rule.

³ See the first sentence of appendix 1 to subpart P of part 404 of 20 CFR.

In addition, for the reasons cited above, we find good cause for dispensing with the 30-day delay in the effective date of this final rule. 5 U.S.C. 553(d)(3). We are not making any substantive changes to the listings in these body systems. Without an extension of the expiration date for these listings, we will not have the criteria we need to assess medical impairments in these 13 body systems at step three of the sequential evaluation processes. We therefore find it is in the public interest to make this final rule effective on the publication date.

Executive Order 12866, as Supplemented by Executive Order 13563

We consulted with the Office of Management and Budget (OMB) and determined that this final rule does not meet the requirements for a significant regulatory action under Executive Order 12866, as supplemented by Executive Order 13563. Therefore, OMB did not review it. We also determined that this final rule meets the plain language requirement of Executive Order 12866.

Regulatory Flexibility Act

We certify that this final rule does not have a significant economic impact on a substantial number of small entities because it affects only individuals. Therefore, a regulatory flexibility analysis is not required under the Regulatory Flexibility Act, as amended.

Paperwork Reduction Act

This final rule only extends the date for the medical listings cited above, but does not create any new or affect any existing collections, or otherwise change any content of the currently published rules. Accordingly, it does not impose any burdens under the Paperwork Reduction Act and does not require OMB approval.

(Federal Assistance Listing Nos. 96.001, Social Security—Disability Insurance; 96.002, Social Security—Retirement Insurance; 96.004, Social Security—Survivors Insurance; 96.006, Supplemental Security Income)

List of Subjects in 20 CFR Part 404

Administrative practice and procedure, Blind, Disability benefits, Old-age, Survivors and disability insurance, Reporting and recordkeeping requirements, Social Security.

For the reasons set out in the preamble, we are amending appendix 1 to subpart P of part 404 of chapter III of title 20 of the Code of Federal Regulations as set forth below.

PART 404—FEDERAL OLD-AGE, SURVIVORS AND DISABILITY INSURANCE (1950-)

Subpart P—Determining Disability and Blindness

1. The authority citation for subpart P of part 404 continues to read as follows:

Authority: 42 U.S.C. 402, 405(a)-(b) and (d)-(h), 416(i), 421(a) and (h)-(j), 422(c), 423, 425, 902(a)(5), and 1320e-3; sec. 211(b), Pub. L. 104-193, 110 Stat. 2105, 2189; sec. 202, Pub. L. 108-203, 118 Stat. 509 (42 U.S.C. 902 note).

2. Amend appendix 1 to subpart P of part 404 in the introductory text by revising items 1 through 5, 7 and 8, and 10 through 15 to read as follows:

Appendix 1 to Subpart P of Part 404—Listing of Impairments

* * * * *

1. Low Birth Weight and Failure to Thrive (100.00): August 15, 2031.

2. Musculoskeletal Disorders (1.00 and 101.00): April 4, 2031.

3. Special Senses and Speech (2.00 and 102.00): June 6, 2031.

4. Respiratory Disorders (3.00 and 103.00): December 13, 2030.

5. Cardiovascular System (4.00 and 104.00): February 7, 2031.

* * * * *

7. Genitourinary Disorders (6.00 and 106.00): December 13, 2030.

8. Hematological Disorders (7.00 and 107.00): June 6, 2031.

* * * * *

10. Endocrine Disorders (9.00 and 109.00): August 15, 2031.

11. Congenital Disorders That Affect Multiple Body Systems (10.00 and 110.00): June 6, 2031.

12. Neurological Disorders (11.00 and 111.00): September 27, 2030.

13. Mental Disorders (12.00 and 112.00): December 13, 2030.

14. Cancer (Malignant Neoplastic Diseases) (13.00 and 113.00): August 15, 2031.

15. Immune System Disorders (14.00 and 114.00): February 7, 2031.

* * * * *

Frank J. Bisignano,
Commissioner, Social Security Administration.

[FR Doc. 2025-17560 Filed 9-10-25; 8:45 am]

BILLING CODE 4191-02-P